DEPARTMENT OF HOMELAND SECURITY

[Docket No. DHS-2010-0019]

National Protection and Programs Directorate; Sector-Specific Agency Executive Management Office Meeting Registration

AGENCY: National Protection and Programs Directorate, DHS.

ACTION: 30-day notice and request for comments; New Information Collection Request: 1670-NEW.

SUMMARY: The Department of Homeland Security (DHS), National Protection and Programs Directorate/Office of Infrastructure Protection/Sector-Specific Agency Executive Management Office (NPPD/IP/SSA EMO) has submitted the following information collection request (ICR) to the Office of Management and Budget (OMB) for review and clearance in accordance with the Paperwork Reduction Act of 1995 (Pub. L. 104-13, 44 U.S.C. chapter 35). The NPPD/IP/SSA EMO is soliciting comments concerning New Information Collection Request, Sector-Specific Agency Executive Management Office Meeting Registration. DHS previously published this information collection request (ICR) in the Federal Register on May 4, 2010 at 75 FR 23783-23784, for a 60-day public comment period. DHS received no comments. The purpose of this notice is to allow an additional 30 days for public comments.

DATES: Comments are encouraged and will be accepted until October 25, 2010. This process is conducted in accordance with 5 CFR 1320.10.

ADDRESSES: Interested persons are invited to submit written comments on the proposed information collection to the Office of Information and Regulatory Affairs, (OMB). Comments should be addressed to OMB Desk Officer in the DHS Office of Civil Rights and Civil Liberties. Comments must be identified by DHS-2010-0019 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: On behalf of DHS, IP manages the Department's program to protect the Nation's 18 Critical Infrastructure and Key Resources (CIKR) Sectors by implementing the National Infrastructure Protection Plan (NIPP). Pursuant to Homeland Security Presidential Directive—7 (HSPD-7) (December 2003), each sector is assigned an SSA to oversee Federal interaction with the array of sector security partners, both public and private. An SSA is responsible for leading a unified public-private sector effort to develop, coordinate, and implement a comprehensive physical, human, and cybersecurity strategy for its assigned sector. The SSA EMO, within IP, executes the SSA responsibilities for the six CIKR sectors assigned to IP: Chemical; Commercial Facilities; Critical Manufacturing; Dams; Emergency Services; and Nuclear Reactors, Materials, and Waste (Nuclear).

The mission of the SSA EMO is to enhance the resiliency of the Nation by leading the unified public-private sector effort to ensure its assigned CIKR are prepared, more secure, and safer from terrorist attacks, natural disasters, and other incidents. To achieve this mission, SSA EMO leverages the resources and knowledge of its CIKR sectors to develop and apply security initiatives that result in significant, measurable benefits to the Nation.

Each SSA EMO branch builds sustainable partnerships with its public and private sector stakeholders to enable more effective sector coordination, information sharing, and program development and implementation. These partnerships are sustained through the Sector Partnership Model, described in the 2009 NIPP, pages 18-20.

Information sharing is a key component of the NIPP Partnership Model, and DHS-sponsored conferences are one mechanism for information sharing. To facilitate conference planning and organization, the SSA EMO plans to establish an event registration tool for use by all of its branches. The information collection is voluntary and will be used by the SSAs within the SSA EMO. The six SSAs within the SSA EMO will use this information to register public and private sector stakeholders for meetings hosted by the SSA. The SSA EMO will use the information collected to reserve space at a meeting for the registrant; contact the registrant with a reminder about the event; develop meeting materials for attendees; determine key topics of interest; and efficiently generate attendee and speaker nametags. Additionally, it will allow the SSA EMO to have a better understanding of the organizations participating in the CIKR protection partnership events. By understanding who is participating, the SSA can identify portions of a sector that are underrepresented, and the SSA could then target underrepresented sector elements through outreach and awareness initiatives.

Analysis:

Agency: Department of Homeland Security, National Protection and Programs Directorate.

Title: Sector-Specific Agency Executive Management Officer Online Meeting Registration Tool.

Form: N/A.

OMB Number: 1670-NEW.

Frequency: On occasion.

Affected Public: Private sector, State, local, or tribal government.

Number of Respondents: 1,900.

Estimated Time per Respondent: 3 minutes.

Total Burden Hours: 95 annual burden hours.

Total Burden Cost (capital/startup): $0.

Total Burden Cost (operating/maintaining): $3,800.00.

Signed: September 16, 2010.
David Epperson,
Acting Chief Information Officer, National Protection and Programs Directorate, Department of Homeland Security.

[FR Doc. 2010-23797 Filed 9-22-10; 8:45 am]

BILLING CODE 9110-9P-P